DEPARTMENT OF COMMERCE

International Trade Administration

Initiation of Antidumping and Countervailing Duty Administrative Reviews

AGENCY: Import Administration, International Trade Administration, Department of Commerce.

SUMMARY: The Department of Commerce has received requests to conduct administrative reviews of various antidumping and countervailing duty orders and findings with April anniversary dates. In accordance with the Department's regulations, we are initiating those administrative reviews.

DATES: Effective Date: May 29, 2009.

FOR FURTHER INFORMATION CONTACT: Sheila E. Forbes, Office of AD/CVD Operations, Customs Unit, Import Administration, International Trade Administration, U.S. Department of Commerce, 14th Street and Constitution Avenue, NW., Washington, DC 20230, telephone: (202) 482-4697.

SUPPLEMENTARY INFORMATION:

Background

The Department has received timely requests, in accordance with 19 CFR 351.213(b)(2002), for administrative reviews of various antidumping and countervailing duty orders and findings with April anniversary dates.

Notice of No Sales

Under 19 CFR 351.213(d)(3), the Department may rescind a review where there are no exports, sales, or entries of subject merchandise during the respective period of review (POR) listed below. If a producer or exporter named in this initiation notice had no exports, sales, or entries during the POR, it should notify the Department within 30 days of publication of this notice in the Federal Register. The Department will consider rescinding the review only if the producer or exporter, as appropriate, submits a properly filed and timely statement certifying that it had no exports, sales, or entries of subject merchandise during the POR. All submissions must be made in accordance with 19 CFR 351.303 and are subject to verification in accordance with section 782(i) of the Tariff Act of 1930, as amended (the Act). Six copies of the submission should be submitted to the Assistant Secretary for Import Administration, International Trade Administration, Room 1870, U.S. Department of Commerce, 14th Street and Constitution Avenue, NW., Washington, DC 20230. Further, in accordance with 19 CFR 351.303(f)(1)(i), a copy of each request must be served on every party on the Department's service list.

Respondent Selection

In the event the Department limits the number of respondents for individual examination for administrative reviews, the Department intends to select respondents based on U.S. Customs and Border Protection (CBP) data for U.S. imports during the POR. We intend to release the CBP data under Administrative Protective Order (APO) to all parties having an APO within five days of publication of this initiation notice and to make our decision regarding respondent selection within 20 days of publication of this Federal Register notice. The Department invites comments regarding the CBP data and respondent selection within 10 calendar days of publication of this Federal Register notice.

Separate Rates

In proceedings involving non-market economy (NME) countries, the Department begins with a rebuttable presumption that all companies within the country are subject to government control and, thus, should be assigned a single antidumping duty deposit rate. It is the Department's policy to assign all exporters of merchandise subject to an administrative review in an NME country this single rate unless an exporter can demonstrate that it is sufficiently independent so as to be entitled to a separate rate.

To establish whether a firm is sufficiently independent from government control of its export activities to be entitled to a separate rate, the Department analyzes each entity exporting the subject merchandise under a test arising from the Final Determination of Sales at Less Than Fair Value: Sparklers from the People's Republic of China, 56 FR 20588 (May 6, 1991), as amplified by Final Determination of Sales at Less Than Fair Value: Silicon Carbide from the People's Republic of China, 59 FR 22585 (May 2, 1994). In accordance with the separate-rates criteria, the Department assigns separate rates to companies in NME cases only if respondents can demonstrate the absence of both de jure and de facto government control over export activities.

All firms listed below that wish to qualify for separate-rate status in the administrative reviews involving NME countries must complete, as appropriate, either a separate-rate application or certification, as described below. For these administrative reviews, in order to demonstrate separate-rate eligibility, the Department requires entities for whom a review was requested, that were assigned a separate rate in the most recent segment of this proceeding in which they participated, to certify that they continue to meet the criteria for obtaining a separate rate. The Separate Rate Certification form will be available on the Department's Web site at http://ia.ita.doc.gov/nme/nme-sep-rate.html on the date of publication of this Federal Register notice. In responding to the certification, please follow the “Instructions for Filing the Certification” in the Separate Rate Certification. Separate Rate Certifications are due to the Department no later than 30 calendar days after publication of this Federal Register notice. The deadline and requirement for submitting a Certification apply equally to NME-owned firms, wholly foreign-owned firms, and foreign sellers who purchase and export subject merchandise to the United States.

Entities that currently do not have a separate rate from a completed segment of the proceeding ¹ should timely file a Separate Rate Application to demonstrate eligibility for a separate rate in this proceeding. In addition, companies that received a separate rate in a completed segment of the proceeding that have subsequently made changes, including, but not limited to, changes to corporate structure, acquisitions of new companies or facilities, or changes to their official company name,² should timely file a Separate Rate Application to demonstrate eligibility for a separate rate in this proceeding. The Separate Rate Application will be available on the Department's Web site at http://ia.ita.doc.gov/nme/nme-sep-rate.html on the date of publication of this Federal Register notice. In responding to the Separate Rate Application, refer to the instructions contained in the application. Separate Rate Applications are due to the Department no later than 60 calendar days of publication of this Federal Register notice. The deadline and requirement for submitting a Separate Rate Application applies equally to NME-owned firms, wholly foreign-owned firms, and foreign sellers that purchase and export subject merchandise to the United States.

¹ Such entities include entities that have not participated in the proceeding, entities that were preliminarily granted a separate rate in any currently incomplete segment of the proceeding (e.g., an ongoing administrative review, new shipper review, etc.) and entities that lost their separate rate in the most recently complete segment of the proceeding in which they participated.

² Only changes to the official company name, rather than trade names, need to be addressed via a Separate Rate Application. Information regarding new trade names may be submitted via a Separate Rate Certification.

Initiation of Reviews

In accordance with section 19 CFR 351.221(c)(1)(i), we are initiating administrative reviews of the following antidumping and countervailing duty orders and findings. We intend to issue the final results of these reviews not later than April 30, 2010.

| Period to be reviewed
Antidumping Duty Proceedings
Russia: Magnesium Metal, A-821-819 | 4/1/08-3/31/09
PSC VSMPO-AVISMA Corporation Solikamsk Magnesium Works
The People's Republic of China:
Certain Activated Carbon ³ A-570-904 | 4/1/08-3/31/09
Actview Carbon Technology Co., Ltd.
Alashan Yongtai Activated Carbon Co., Ltd.
Anhui Hengyuan Trade Co., Ltd.
Baoding Activated Carbon Factory
Beijing Broad Activated Carbon Co., Ltd.
Beijing Haijian Jiechang Environmental Protection Chemicals
Beijing Hibridge Trading Co., Ltd.
Beijing Huapeng Environment Protection Materials
Beijing Pacific Activated Carbon Products Co., Ltd.
Benbu Jiutong Trade Co., Ltd.
Calgon Carbon (Tianjin) Co., Ltd.
Changji Hongke Activated Carbon Co., Ltd.
Chengde Jiayu Activated Carbon Factory
Cherishmet Incorporated
China National Building Materials and Equipment Import Export Corp.
China National Nuclear General Company Ningxia Activated Carbon Factory
China Nuclear Ningxia Activated Carbon Plant
Da Neng Zheng Da Activated Carbon Co., Ltd.
Datong Carbon Corporation
Datong Changtai Activated Carbon Co., Ltd.
Datong City Zouyun County Activated Carbon Co., Ltd.
Datong Fenghua Activated Carbon
Datong Forward Activated Carbon Co., Ltd.
Datong Fuping Activated Carbon Co., Ltd.
Datong Guanghua Activated Carbon Co., Ltd.
Datong Hongji Coal Industry
Datong Hongtai Activated Carbon Co., Ltd.
Datong Huanqing Activated Carbon Co., Ltd.
Datong Huaxin Activated Carbon
Datong Huibao Active Carbon
Datong Huibao Activated Carbon Co., Ltd.
Datong Huiyuan Cooperative Activated Carbon Plant
Datong Juqiang Activated Carbon Co., Ltd.
Datong Kaneng Carbon Co. Ltd.
Datong Kangda Activated Carbon Factory
Datong Locomotive Coal & Chemicals Co., Ltd.
Datong Municipal Yunguang Activated Carbon Co., Ltd.
Datong Runmei Activated Carbon Factory
Datong Tianzhao Activated Carbon Co., Ltd.
DaTong Tri-Star & Power Carbon Plant
Datong Weidu Activated Carbon Co., Ltd.
Datong Xuanyang Activated Carbon Co. Ltd.
Datong Yunguang Chemicals Plant
Datong Zuoyun Biyun Activated Carbon Co., Ltd.
Datong Zuoyun Fu Ping Activated Carbon Plant
Dezhou Jiayu Activated Carbon Factory
Dongguan Baofu Activated Carbon
Dushanzi Chemical Factory
Fangyuan Carbonization Co., Ltd.
Fu Yuan Activated Carbon Co., Ltd.
Fujian Jianyang Carbon Plant
Fujian Nanping Yuanli Activated Carbon
Fuzhou Taking Chemical
Fuzhou Yihuan Carbon
Great Bright Industrial
Hangzhou Hengxing Activated Carbon
Hangzhou Linan Tianbo Material
Hebei Foreign Trade and Advertising Corporation
Hebei Shenglun Import & Export Group Company
Hegongye Ninxia Activated Carbon Factory
Heilongjiang Provincial Hechang Imp. & Exp. Co., Ltd.
Hongke Activated Carbon Co., Ltd.
Huaibei Environment Protection Material Plant
Huairen Jinbei Chemical Co., Ltd.
Huairen Huanyi Purifying Material
Huaiyushan Activated Carbon Tec & Sec (Zhuhai) Co., Ltd.
Huahui Activated Carbon Company Ltd.
Huatai Activated Carbon
Huaxin Active Carbon Plant
Huzhou Zhonglin Activated Carbon
Hz Hengxing Activated Carbon Co.
Inner Mongolia Taixi Coal Chemical Industry Limited Company
Itigi Corp. Ltd.
J&D Activated Carbon Filter Co., Ltd.
Jacobi Carbons AB
Jiangle County Xinhua Activated Carbon Co., Ltd.
Jiangxi Hansom Import Export Co.
Jiangxi Huaiyushan Activated Carbon
Jiangxi Jinma Carbon
Jianou Zhixing Activated Carbon
Jiaocheng Xinxin Purification Material Co., Ltd.
Jilin Bright Future Chemicals Company, Ltd.
Jilin Goodwill Activated Carbon Plant
Jilin Province Bright Future Industry and Commerce Co., Ltd.
Jing Mao (Dongguan) Activated Carbon Co., Ltd.
Jx Huaiyushan Activated Carbon Group Co.
Jx Huaiyushan Suntar Active Carbon
Kaihua Xingda Chemical Co., Ltd.
Kaihua Xinghua Chemical Plant
Kemflo (Nanjing) Environmental Tech
Kunshan Actview Carbon Technology
Langfang Winfield Filtration Co.
Link Link Shipping Limited
Longyan Wanan Activated Carbon
Mindong Lianyi Group
Nanjing Mulinsen Charcoal
Nantong Ameriasia Advanced Activated Carbon Product Co., Ltd.
Ningxia Baota Active Carbon Plant
Ningxia Baota Activated Carbon Co., Ltd.
Ningxia Blue-White-Black Activated Carbon
Ningxia Fengyuan Activated Carbon Co., Ltd.
Ningxia Guanghua A/C Co., Ltd.
Ningxia Guanghua Activated Carbon Co., Ltd.
Ningxia Guanghua Chemical Activated Carbon Co., Ltd.
Ningxia Guanghua Cherishmet Activated Carbon Co., Ltd.
Ningxia Haoqing Activated Carbon Co., Ltd.
Ningxia Henghui Activated Carbon
Ningxia Honghua Carbon Industrial Corporation
Ningxia Huahui Activated Carbon Co., Ltd.
Ningxia Huinong Xingsheng Activated Carbon Co., Ltd.
Ningxia Jirui Activated Carbon
Ningxia Lingzhou Foreign Trade Co., Ltd.
Ningxia Luyuangheng Activated Carbon Co., Ltd.
Ningxia Mineral & Chemical Limited
Ningxia Pingluo County Yaofu Activated Carbon Plant
Ningxia Pingluo County Yaofu Activated Carbon Factory
Ningxia Pingluo Xuanzhong Activated Carbon Co., Ltd.
Ningxia Pingluo Yaofu Activated Carbon Factory
Ningxia Taixi Activated Carbon
Ningxia Tianfu Activated Carbon Co., Ltd.
Ningxia Tongfu Coking Co., Ltd.
Ningxia Weining Active Carbon Co., Ltd.
Ningxia Xingsheng Coal and Active Carbon Co., Ltd.
Ningxia Xingsheng Coke and Activated Carbon
Ningxia Yinchuan Lanqiya Activated Carbon Co., Ltd.
Ningxia Yirong Alloy Iron Co., Ltd.
Ningxia Zhengyuan Activated
Nuclear Ningxia Activated Carbon Co., Ltd.
OEC Logistic Qingdao Co., Ltd.
Panshan Import and Export Corporation
Pingluo Xuanzhong Activated Carbon Co., Ltd.
Pingluo Yu Yang Activated Carbon Co., Ltd.
Shanghai Activated Carbon Co. Ltd.
Shanghai Coking and Chemical Corporation
Shanghai Goldenbridge International
Shanghai Jiayu International Trading Co. Ltd.
Shanghai Jinhu Activated Carbon
Shanghai Mebao Activated Carbon
Shanhai Xingchang Activated Carbon
Shanxi Blue Sky Purification Material Co., Ltd.
Shanxi DMD Corporation
Shanxi Industry Technology Trading Co., Ltd.
Shanxi Newtime Co., Ltd.
Shanxi Qixian Foreign Trade Corporation
Shanxi Qixian Hongkai Active Carbon Goods
Shanxi Sincere Industrial Co., Ltd.
Shanxi Supply and Marketing Cooperative
Shanxi Tianli Ruihai Enterprise Co.
Shanxi Xiaoyi Huanyu Chemicals Co., Ltd.
Shanxi Xinhua Activated Carbon Co., Ltd.
Shanxi Xinhua Chemical Co., Ltd.
Shanxi Xinhua Chemical Factory
Shanxi Xinhua Protective Equipment
Shanxi Xinshidai Imp. Exp. Co., Ltd.
Shanxi Xuanzhong Chemical Industry Co., Ltd.
Shanxi Zuoyun Yunpeng Coal Chemistry
Shenzhen Sihaiweilong Technology Co.
Sincere Carbon Industrial Co., Ltd.
Taining Jinhu Carbon
Tangshan Solid Carbon Co., Ltd.
Tianchang (Tianjin) Activated Carbon
Tianjin Jacobi International Trading Co. Ltd.
Tianjin Maijin Industries Co., Ltd.
Tonghua Bright Future Activated Carbon Plant
Tonghua Xinpeng Activated Carbon Factory
United Manufacturing International (Beijing) Ltd.
Valqua Seal Products (Shanghai) Co
Wellink Chemical Industry
Xi Li Activated Carbon Co., Ltd.
Xi'an Shuntong International Trade & Industrials Co., Ltd.
Xiamen All Carbon Corporation
Xingan County Shenxin Activated Carbon Factory
Xingtai Coal Chemical Co., Ltd.
Xinhua Chemical Company Ltd.
Xinyuan Carbon
Xuanzhong Chemical Industry
Yangyuan Hengchang Active Carbon
Yicheng Logistics
Yinchuan Lanqiya Activated Carbon Co., Ltd.
Yinyuan Carbon
YunGuan Chemical Factory
Yuanguang Activated Carbon Co., Ltd.
Yuyang Activated Carbon Co., Ltd.
Zhejiang Quizhou Zhongsen Carbon
Zhejiang Yun He Tang Co., Ltd.
Zhuxi Activated Carbon
Zuoyun Bright Future Activated Carbon Plant
Magnesium Metal ⁴ A-570-896 | 4/1/08-3/31/09
Tianjin Magnesium International Co., Ltd.
Non-Malleable Cast Iron Pipe Fittings ⁵ A-570-875 | 4/1/08-3/31/09
NEP Tianjin Machinery Company
³ If one of the above named companies does not qualify for a separate rate, all other exporters of certain activated carbon from the People's Republic of China who have not qualified for a separate rate are deemed to be covered by this review as part of the single PRC entity of which the named exporters are a part.
⁴ If the above named company does not qualify for a separate rate, all other exporters of magnesium metal from the People's Republic of China who have not qualified for a separate rate are deemed to be covered by this review as part of the single PRC entity of which the named exporters are a part.
⁵ If the above named company does not qualify for a separate rate, all other exporters of non-malleable cast iron pipe fittings from the People's Republic of China who have not qualified for a separate rate are deemed to be covered by this review as part of the single PRC entity of which the named exporters are a part.

Countervailing Duty Proceeding

None.

Suspension Agreements

None.

During any administrative review covering all or part of a period falling between the first and second or third and fourth anniversary of the publication of an antidumping duty order under 19 CFR 351.211 or a determination under 19 CFR 351.218(f)(4) to continue an order or suspended investigation (after sunset review), the Secretary, if requested by a domestic interested party within 30 days of the date of publication of the notice of initiation of the review, will determine, consistent with FAG Italia v. United States, 291 F.3d 806 (Fed. Cir. 2002), as appropriate, whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305. On January 22, 2008, the Department published Antidumping and Countervailing Duty Proceedings: Documents Submission Procedures; APO Procedures (73 FR 3634). Those procedures apply to administrative reviews included in this notice of initiation. Parties wishing to participate in any of these administrative reviews should ensure that they meet the requirements of these procedures (e.g., the filing of separate letters of appearance as discussed at 19 CFR 351.103(d)).

These initiations and this notice are in accordance with section 751(a) of the Tariff Act of 1930, as amended (19 U.S.C. 1675(a)), and 19 CFR 351.221(c)(1)(i).

Dated: May 22, 2009.
John M. Andersen,
Acting Deputy Assistant Secretary for Antidumping and Countervailing Duty Operations.

[FR Doc. E9-12571 Filed 5-28-09; 8:45 am]

BILLING CODE 3510-DS-P